DEPARTMENT OF TRANSPORTATION

Federal Aviation Administration

14 CFR Part 39

[Docket No. 2002-NM-07-AD; Amendment 39-12611; AD 2002-01-17]

RIN 2120-AA64

Airworthiness Directives; Dornier Model 328-100 Series Airplanes

AGENCY: Federal Aviation Administration, DOT.

ACTION: Final rule; request for comments.

SUMMARY: This amendment adopts a new airworthiness directive (AD) that is applicable to all Dornier Model 328-100 series airplanes. This action requires revising the Airplane Flight Manual to provide the flight crew with the appropriate procedures necessary to verify correct operation of the primary alternating current (AC) pump of the main hydraulic system before takeoff. This action is necessary to prevent takeoff with an inoperative pump, which could result in an extended takeoff roll or a rejected takeoff, and consequent runway overrun, structural damage to the airplane, and possible injury to occupants. This action is intended to address the identified unsafe condition.

DATES: Effective February 14, 2002.

The incorporation by reference of certain publications listed in the regulations is approved by the Director of the Federal Register as of February 14, 2002.

Comments for inclusion in the Rules Docket must be received on or before March 1, 2002.

ADDRESSES: Submit comments in triplicate to the Federal Aviation Administration (FAA), Transport Airplane Directorate, ANM-114, Attention: Rules Docket No. 2002-NM-07-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via the Internet must contain “Docket No. 2002-NM-07-AD” in the subject line and need not be submitted in triplicate. Comments sent via fax or the Internet as attached electronic files must be formatted in Microsoft Word 97 for Windows or ASCII text.

The service information referenced in this AD may be obtained from FAIRCHILD DORNIER, DORNIER Luftfahrt GmbH, P.O. Box 1103, D-82230 Wessling, Germany. This information may be examined at the FAA, Transport Airplane Directorate, 1601 Lind Avenue, SW., Renton, Washington; or at the Office of the Federal Register, 800 North Capitol Street, NW., suite 700, Washington, DC.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION: The Luftfahrt-Bundesamt (LBA), which is the airworthiness authority for Germany, recently notified the FAA that an unsafe condition may exist on all Dornier Model 328-100 series airplanes. The LBA advises that an operator reported that during flight there was an advisory message on the Crew Alerting System showing “HYD MAIN PMP INOP.” The “HYD PWR MAIN” button was in the on position, but illuminated “OFF.” Investigation revealed that a circuit breaker had popped and the alternating current (AC) main pump motor had failed. Subsequent testing revealed that it was possible to have an inoperative AC hydraulic pump without pre-flight indication to the pilot. The AC pump provides hydraulic power to the brakes, ground spoiler, anti-skid control box, and nose wheel steering. Takeoff with an inoperative pump could result in an extended takeoff roll or a rejected takeoff, and consequent runway overrun, structural damage to the airplane, and possible injury to occupants.

Service Information

The manufacturer has issued Dornier 328 All Operators Telefaxes (AOT) AOT-328-29-018 and AOT-328-29-019, both dated September 20, 2001, which describe procedures for revising the Normal Procedures section of the Airplane Flight Manual (AFM) to provide the flight crew with the appropriate procedures necessary to verify correct operation of the primary AC pump of the main hydraulic system before takeoff.

The LBA classified the AOTs as mandatory and issued German airworthiness directive 2001-358, dated December 13, 2001, in order to assure the continued airworthiness of these airplanes in Germany.

FAA's Conclusions

This airplane model is manufactured in Germany and is type certificated for operation in the United States under the provisions of section 21.29 of the Federal Aviation Regulations (14 CFR 21.29) and the applicable bilateral airworthiness agreement. Pursuant to this bilateral airworthiness agreement, the LBA has kept the FAA informed of the situation described above. The FAA has examined the findings of the LBA, reviewed all available information, and determined that AD action is necessary for products of this type design that are certificated for operation in the United States.

Explanation of Requirements of Rule

Since an unsafe condition has been identified that is likely to exist or develop on other airplanes of the same type design registered in the United States, this AD is being issued to prevent takeoff with an inoperative primary AC pump of the main hydraulic system, which could result in an extended takeoff roll or a rejected takeoff, and consequent runway overrun, structural damage to the airplane, and possible injury to occupants. This AD requires revising the Normal Procedures section of the FAA-approved AFM to provide the flight crew with the appropriate procedures necessary to verify correct operation of the pump before takeoff.

Difference Between This AD and German Airworthiness Directive

The German airworthiness directive mandates doing the AFM revision before the next flight of the airplane. This AD allows operators 10 days to complete the required AFM revision. The FAA recognizes the severity of the unsafe condition presented by this situation, but finds a 10-day compliance time appropriate in consideration of the safety implications, the average utilization of the fleet, and the practical aspects of planning and scheduling accomplishment of the required AFM revision. We have considered all these factors and have determined that this compliance time will not adversely affect the continued operational safety of the fleet.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-07-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-01-17 Dornier Luftfahrt GMBH: Amendment 39-12611. Docket 2002-NM-07-AD.

Applicability: All Model 328-100 series airplanes, certificated in any category.

Compliance: Required as indicated, unless accomplished previously.

To prevent takeoff with an inoperative primary AC pump of the main hydraulic system, which could result in an extended takeoff roll or a rejected takeoff, and consequent runway overrun, structural damage to the airplane, and possible injury to occupants; accomplish the following:

Airplane Flight Manual (AFM) Revision

(a) Within 10 days after the effective date of this AD: Revise the Normal Procedures Section of the Dornier 328 FAA-approved AFM to incorporate the procedures specified in Dornier 328 All Operators Telefax (AOT) AOT-328-29-018, or AOT-328-29-019, both dated September 20, 2001, as applicable, by inserting a copy of the AOT into the AFM.

(b) When the procedures in the applicable AOT specified in paragraph (a) of this AD have been incorporated into the FAA-approved general revisions of the AFM, the general revisions may be incorporated into the AFM, and the AOT may be removed from the AFM.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 1: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The AFM revision required by paragraph (a) of this AD shall be done in accordance with Dornier 328 All Operators Telefax AOT-328-29-018, dated September 20, 2001; or Dornier 328 All Operators Telefax AOT-328-29-019, dated September 20, 2001; as applicable. This incorporation by reference was approved by the Director of the Federal Register in accordance with 5 U.S.C. 552(a) and 1 CFR part 51. Copies may be obtained from FAIRCHILD DORNIER, DORNIER Luftfahrt GmbH, P.O. Box 1103, D-82230 Wessling, Germany. Copies may be inspected at the FAA, Transport Airplane Directorate, 1601 Lind Avenue, SW., Renton, Washington; or at the Office of the Federal Register, 800 North Capitol Street, NW., suite 700, Washington, DC.

Note 2: The subject of this AD is addressed in German airworthiness directive 2001-358, dated December 13, 2001.

Effective Date

(f) This amendment becomes effective on February 14, 2002.

Issued in Renton, Washington, on January 17, 2002.
Michael Kaszycki,
Acting Manager, Transport Airplane Directorate, Aircraft Certification Service.

[FR Doc. 02-1821 Filed 1-29-02; 8:45 am]

BILLING CODE 4910-13-U